DEPARTMENT OF DEFENSE

Department of the Army

Notice of Availability of a Broad Spectrum of Patents for Exclusive, Partially Exclusive, or Non-Exclusive Licenses

AGENCY: Department of the Army, DoD.

ACTION: Notice of availability.

SUMMARY: The Department of the Army announces the general availability of exclusive, partially exclusive or non-exclusive licenses relative to the following listing of patents. Any license shall comply with 35 U.S.C. 209 and 37 CFR part 404.

Principle inventor | United States Patent No. | Patent title
Young | 7,602,997 | Method of super-resolving images.
Zhou | 7,609,971 | Electro optical scanning multi-function antenna.
Allen | 7,629,080 | Electrode materials for electrochemical cells.
Hill | 7,631,567 | Systems and methods for collecting particles from a large volume of gas into a small volume of liquid.
Tunick | 7,634,393 | Technique for coupling meteorology to acoustics in forests.
Pulskamp | 7,642,692 | PZT MEMS resonant Lorentz force magnetometer.
Kecskes | 7,645,350 | High-density metallic glass alloys.
Hoffman | 7,646,797 | Use of current channeling in multiple node laser systems and methods thereof.
Conroy | 7,650,710 | Article with enhanced resistance to thermochemical erosion, and method for its manufacture.
Scanlon | 7,656,749 | Systems and methods for analyzing acoustic waves.
Darwish | 7,655,944 | Systems and methods for estimating thermal resistance of field effect transistor structures.
Meyers | 7,660,533 | Quantum Fourier transform based information Transmission system and method
Edelstein | 7,656,159 | Locating stationary magnetic objects.
Edelstein | 7,655,996 | MEMS structure support and release mechanism.
Conroy | 7,669,358 | Dynamic process for enhancing the wear resistance of ferrous articles.
Redman | 7,675,610 | Photon counting, chirped AM LADAR system and related methods.
Videen | 7,701,638 | Spherically shaped optical beamsplitter.
Zhu | 7,700,508 | Low conductivity and high toughness tetragonal phase structured ceramic thermal barrier coatings.
Hull | 7,701,196 | Methods for detecting and classifying loads on AC lines.
Jiang | 7,695,601 | Electrochemical test apparatus and method for its use.
Ly | 7,692,592 | High power two-patch array antenna system.
Edelstein | 7,707,004 | Locating ferromagnetic objects in a single pass.
Gupta | 7,733,484 | Hyperspectral scene projection/generation systems and methods.
Mackie | 7,734,122 | Multimode interference device with side input/output ports.
Bender | 7,730,839 | Interfacial stress reduction and load capacity enhancement system.
Touchet | 7,737,225 | High performance elastomeric compound.
Zhu | 7,740,960 | Multifunctionally graded environmental barrier coatings for silicon-base ceramic components.
Nair | 7,739,938 | Gas generator launcher for small unmanned aerial vehicles (UAVs).
Hoffman | 7,751,109 | Electro-optic shutter.
Hoffman | 7,756,175 | Pumped semiconductor laser systems and methods.
Nguyen | 7,796,829 | Method and system for forming an image with enhanced contrast and/or reduced noise.
Meyers | 7,805,079 | Free-space quantum communications process operative absent line-of-sight.

FOR FURTHER INFORMATION CONTACT: Michael D. Rausa, U.S. Army Research Laboratory, Office of Research and Technology Applications, ATTN: AMSRD-ARL-DP-P/Bldg. 434, Aberdeen Proving Ground, MD 21005-5425, Telephone: (410) 278-5028.

SUPPLEMENTARY INFORMATION: None.

Brenda S. Bowen,
Army Federal Register Liaison Officer.

[FR Doc. 2010-25352 Filed 10-6-10; 8:45 am]

BILLING CODE 3710-08-P